DEPARTMENT OF HEALTH AND HUMAN SERVICES

Administration for Children and Families

President's Committee on Mental Retardation; Notice of Meeting

AGENCY: President's Committee on Mental Retardation (PCMR), HHS.

ACTION: Notice of meeting.

DATES: Monday, January 27, 2003, from 1 p.m. to 7 p.m., and Tuesday, January 28, 2003, from 8 a.m. to 4 p.m. The entire meeting of the PCMR will be open to the public.

ADDRESSES: The meeting will be held at the Aerospace Center Building, Aerospace Auditorium, 6th Floor East, 370 L'Enfant Promenade, SW., Washington, DC 20447. Individuals who will need accommodations for a disability in order to attend the meeting (i.e., interpreting services, assistive listening devices, materials in alternative format) should notify Sally Atwater at (202) 619-0634 no later than January 13, 2003. We will attempt to meet requests after that date, but cannot guarantee availability. All meeting sites are barrier free.

Agenda: The Committee plans to discuss critical issues relating to individuals with mental retardation concerning education and transition, family services and supports, public awareness, employment, and assistive technology and information.

FOR FURTHER INFORMATION CONTACT: Sally D. Atwater, Executive Director, President's Committee on Mental Retardation, Aerospace Center Building, Suite 701, 370 L'Enfant Promenade, SW., Washington, DC 20447, telephone: 202-619-0634, fax: 202-205-9591, e-mail: satwater@acf.hhs.gov.

SUPPLEMENTARY INFORMATION: The PCMR acts in an advisory capacity to the President and the Secretary of the U.S. Department of Health and Human Services on a broad range of topics relating to programs, services, and supports for persons with mental retardation. The Committee, by Executive Order, is responsible for evaluating the adequacy of current practices in programs and supports for persons with mental retardation, and for reviewing legislative proposals that impact the quality of life that is experienced by citizens with mental retardation and their families.

Dated: December 6, 2002.
Sally D. Atwater,
Executive Director, President's Committee on Mental Retardation.

[FR Doc. 02-32002 Filed 12-19-02; 8:45 am]

BILLING CODE 4184-01-M